DEPARTMENT OF JUSTICE

Office of Justice Programs

[OMB Number 1121-NEW]

National Institute of Justice; Agency Information Collection Activities: Proposed Collection; Comments Requested

ACTION: 60-Day Notice of Information Collection Under Review: New. Survey of Law Enforcement's Forensic Backlogs.

The Department of Justice (DOJ), Office of Justice Programs, National Institute of Justice, will be submitting the following information collection request to the Office of Management and Budget (OMB) for review and approval in accordance with the Paperwork Reduction Act of 1995. The proposed information collection is published to obtain comments from the public and affected agencies. Comments are encouraged and will be accepted for “sixty days” until January 25, 2008. This process is conducted in accordance with 5 CFR 1320.10.

If you have comments especially on the estimated public burden or associated response time, suggestions, or need a copy of the proposed information collection instrument with instructions or additional information, please contact John Paul Jones, (202) 307-5715, National Institute of Justice, Office of Justice Programs, U.S. Department of Justice, 810 Seventh Street, NW., Washington, DC 20531.

Request written comments and suggestions from the public and affected agencies concerning the proposed collection of information are encouraged. Your comments should address one or more of the following four points:

Evaluate whether the proposed collection of information is necessary for the proper performance of the functions of the agency, including whether the information will have practical utility;

Evaluate the accuracy of the agency's estimate of the burden of the proposed collection of information, including the validity of the methodology and assumptions used;

Enhance the quality, utility, and clarity of the information to be collected; and

Minimize the burden of the collection of information on those who are to respond, including through the use of appropriate automated, electronic, mechanical, or other technological collection techniques or other forms of information technology, e.g., permitting electronic submission of responses.

Overview of this information collection:

(1) Type of Information Collection: New.

(2) Title of the Form/Collection: Survey of Law Enforcement's Forensic Backlogs.

(3) Agency form number, if any, and the applicable component of the Department of Justice sponsoring the collection: None. National Institute of Justice, Office of Justice Programs, U.S. Department of Justice.

(4) Affected public who will be asked or required to respond, as well as a brief abstract: State and local law enforcement officials.

The National Institute of Justice will use this survey to determine the size and nature of forensic evidence backlogs in state and local law enforcement agencies. For the purposes of this survey, these forensic backlogs are defined as the number of homicide, rape, and property crime cases that contain forensic evidence but that have not been submitted to forensic crime laboratories for analysis. The 2005 Census of Crime Laboratories conducted by the Bureau of Justice Statistics details the size of forensic evidence backlogs in the nation's crime laboratory system. In order to develop a complete picture of forensic backlogs across the criminal justice system, the Survey of Law Enforcement's Forensic Backlogs will provide much needed information on forensic evidence backlogs in state and local law enforcement agencies.

(5) An estimate of the total number of respondents and the amount of time estimated for an average respondent to respond: An estimated 2,975 respondents with an average burden time of 30 minutes—1,488 hours total.

(6) An estimate of the total public burden (in hours) associated with the collection: The estimated public burden associated with this collection is 1,488 hours.

If additional information is required contact: Lynn Bryant, Department Clearance Officer, Policy and Planning Staff, Justice Management Division, Department of Justice, Patrick Henry Building, Suite 1600, 601 D Street, NW., Washington, DC 20530.

Dated: November 16, 2007.
Lynn Bryant,
Department Clearance Officer, PRA, Department of Justice.

[FR Doc. E7-22917 Filed 11-23-07; 8:45 am]

BILLING CODE 4410-18-P